DEPARTMENT OF STATE

[Public Notice 5391]

Shipping Coordinating Committee; Notice of Meeting

The Shipping Coordinating Committee (SHC) will conduct an open meeting at 9:30 a.m. on Tuesday, May 30, 2006, in Room 2415 of the United States Coast Guard Headquarters Building, 2100 2nd Street, SW., Washington, DC 20593-0001. The primary purpose of the meeting is to prepare for the 14th Session of the International Maritime Organization (IMO) Sub-Committee on Flag State Implementation to be held at IMO Headquarters in London, England from June 5th to 9th.

The primary matters to be considered include:

—Responsibilities of Governments and measures to encourage flag State compliance;

—Port State Control (PSC) on seafarer's working hours;

—Harmonization of port State control activities;

—Comprehensive analysis of difficulties encountered in the implementation of IMO instruments;

—Mandatory reports under International Convention for the Prevention of Pollution from Ships, 1973, as modified by the Protocol of 1978 (MARPOL 73/78);

—Casualty statistics and investigations;

—Review of the Code for the investigation of marine casualties and incidents;

—Review of the Survey Guidelines under the Harmonized System of Survey and Certification (HSSC)—(resolution A.948(23));

—Development of guidelines on port State control under the 2004 Ballast Water Management (BWM) Convention;

—Development of survey guidelines required by regulation E-1 of the 2004 BWM Convention;

—Port reception facilities-related issues;

—Illegal, unregulated and unreported (IUU) fishing and implementation of resolution A.925(22);

—Consideration of International Association of Classification Societies (IACS) unified interpretations;

Members of the public may attend this meeting up to the seating capacity of the room. Interested persons may seek information by writing to Mr. E.J. Terminella, Commandant (G-PCV), U.S. Coast Guard Headquarters, 2100 Second Street, SW., Room 1116, Washington, DC 20593-0001 or by calling (202) 267-2978.

Dated: May 5, 2006.
Clay Diamond,
Executive Secretary, Shipping Coordinating Committee, Department of State.

[FR Doc. E6-7581 Filed 5-17-06; 8:45 am]

BILLING CODE 4710-09-P